DEPARTMENT OF ENERGY

Federal Energy Regulatory Commission

Combined Notice of Filings #2

Take notice that the Commission received the following electric rate filings:

Docket Numbers: ER14-2751-005.

Applicants: Xcel Energy Southwest Transmission Company, LLC.

Description: Xcel Energy Southwest Transmission Company, LLC submits the compliance electric rate filing.

Filed Date: 8/26/16.

Accession Number: 20160829-0001.

Comments Due: 5 p.m. ET 9/16/16.

Docket Numbers: ER16-2290-000.

Applicants: Spartan Renewable Energy, Inc.

Description: Supplement to July 26, 2016 Spartan Renewable Energy, Inc. tariff filing.

Filed Date: 8/24/16.

Accession Number: 20160824-5271.

Comments Due: 5 p.m. ET 9/14/16.

Docket Numbers: ER16-2374-001.

Applicants: Midcontinent Independent System Operator, Inc.

Description: Compliance filing: 2016-08-30_Correction to Order 827 Compliance (Attachment X) Filing to be effective 9/21/2016.

Filed Date: 8/30/16.

Accession Number: 20160830-5219.

Comments Due: 5 p.m. ET 9/20/16.

Docket Numbers: ER16-2509-000.

Applicants: Rutherford Farm, LLC.

Description: Baseline eTariff Filing: Application and Initial Baseline Filing of Rutherford Farm, LLC to be effective 10/29/2016.

Filed Date: 8/30/16.

Accession Number: 20160830-5217.

Comments Due: 5 p.m. ET 9/20/16.

Docket Numbers: ER16-2509-001.

Applicants: Rutherford Farm, LLC.

Description: Tariff Amendment: Amendment to Application and Initial Baseline Tariff Filing of Rutherford Farm to be effective 10/29/2016.

Filed Date: 8/30/16.

Accession Number: 20160830-5243.

Comments Due: 5 p.m. ET 9/20/16.

Docket Numbers: ER16-2510-000.

Applicants: ITC Midwest LLC.

Description: Section 205(d) Rate Filing: Filing of Joint Use Pole Agreement to be effective 10/31/2016.

Filed Date: 8/30/16.

Accession Number: 20160830-5222.

Comments Due: 5 p.m. ET 9/20/16.

Docket Numbers: ER16-2511-000.

Applicants: Stanford University Power LLC.

Description: Baseline eTariff Filing: Stanford University Power LLC MBR Baseline Filing to be effective9/29/2016.

Filed Date: 8/30/16.

Accession Number: 20160830-5234.

Comments Due: 5 p.m. ET 9/20/16.

Take notice that the Commission received the following qualifying facility filings:

Docket Numbers: QF16-1175-000.

Applicants: Strom Energy, Inc.

Description: Form 556 of Strom Energy, Inc. [LNG Power] under QF16-1175.

Filed Date: 8/30/16.

Accession Number: 20160830-5187.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 30, 2016.
Nathaniel J. Davis, Sr.,
Deputy Secretary.

[FR Doc. 2016-21530 Filed 9-7-16; 8:45 am]

BILLING CODE 6717-01-P